DEPARTMENT OF DEFENSE

Office of the Secretary

[Docket ID: DOD-2020-OS-0033]

Privacy Act of 1974; System of Records

AGENCY: Office of the Secretary, Department of Defense (DoD).

ACTION: Notice of a modified System of Records.

SUMMARY: The Office of the Secretary of Defense (OSD) is modifying the DoD Personnel Accountability and Assessment System, DPR 39 DoD, for the purpose of more clearly covering records that may be maintained in response to public health and safety events or other similar emergencies such as Coronavirus Disease 2019 (COVID-19). The DoD blanket routine uses were removed and replaced with specific routine uses that explain the entities to which disclosures would be made.

DATES: This System of Records Modification is effective upon publication; however comments on the Routine Uses will be accepted on or before April 27, 2020. The Routine Uses are effective at the close of the comment period.

ADDRESSES: You may submit comments, identified by docket number and title, by any of the following methods:

* Federal Rulemaking Portal: https://www.regulations.gov.

Follow the instructions for submitting comments.

* Mail: Department of Defense, Office of the Chief Management Officer, Directorate for Oversight and Compliance, 4800 Mark Center Drive, Mailbox #24, Suite 08D09, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Cindy Allard, Chief, Defense Privacy, Civil Liberties and Transparency Division, 4800 Mark Center Drive, Mailbox #24, Suite 08D09, Alexandria, VA 22350-1700, or by phone at (703) 571-0070.

SUPPLEMENTARY INFORMATION: In quick response to the changing situation regarding COVID-19, the OSD is modifying this System of Records Notice to include the necessary information needed in order to decrease the community spread of this disease within the DoD community. The OSD notices for Systems of Records subject to the Privacy Act of 1974, as amended, have been published in the Federal Register and are available from the address in FOR FURTHER INFORMATION CONTACT or from the Defense Privacy, Civil Liberties, and Transparency Division website at https://dpcld.defense.gov.

The proposed system reports, as required by the Privacy Act, as amended, were submitted on March 20, 2020, to the House Committee on Oversight and Reform, the Senate Committee on Homeland Security and Governmental Affairs, and the Office of Management and Budget (OMB) pursuant to Section 6 of OMB Circular No. A-108, “Federal Agency Responsibilities for Review, Reporting, and Publication under the Privacy Act,” revised December 23, 2016 (December 23, 2016, 81 FR 94424).

Dated: March 23, 2020.
Aaron T. Siegel,
Alternate OSD Federal Register Liaison Officer, Department of Defense.

SYSTEM NAME AND NUMBER:

DoD Personnel Accountability and Assessment System, DPR 39 DoD.

SECURITY CLASSIFICATION:

Unclassified.

SYSTEM LOCATION:

Decentralized locations include the DoD Components staff and field operating agencies, major commands, installations, and activities.

SYSTEM MANAGER(S):

Senior Program Manager for Casualty and Mortuary Affairs, Office of the Under Secretary of Defense (Personnel & Readiness), Deputy Under Secretary of Defense for Military Community and Family Policy, 4000 Defense Pentagon, Washington DC 20301-4000; DoD Components including the Office of the Secretary of Defense, Departments of the Army, Air Force, and Navy and staffs, field operating agencies, major commands, installations, and activities.

The Privacy Act responsibilities concerning access, amendment, and disclosure of the records within this system notice have been delegated to the employing DoD components.

AUTHORITY FOR MAINTENANCE OF THE SYSTEM:

10 U.S.C. 113, Secretary of Defense; 10 U.S.C. 136, Under Secretary of Defense for Personnel and Readiness; 10 U.S.C. 7013, Secretary of the Army; 10 U.S.C. 8013, Secretary of the Navy; 10 U.S.C. 9013, Secretary of the Air Force; 10 U.S.C. 2672, Protection of Buildings, Grounds, Property, and Persons; DoD Instruction 3001.02, Personnel Accountability in Conjunction with Natural or Manmade Disasters; DoD Instruction 6200.03, Public Health Emergency Management (PHEM) Within the DoD; DoD Instruction 6055.17, DoD Emergency Management (EM) Program; and E.O. 9397 (SSN), as amended.

PURPOSE(S) OF THE SYSTEM:

To accomplish personnel accountability for and status of DoD-affiliated personnel in a natural or man-made disaster or public health emergency, or when directed by the Secretary of Defense. Such events could include severe weather events, acts of terrorism or severe destruction, pandemics or major public health outbreaks, and similar crises. This system will document the individuals' check-in data or other information that is self-reported or provided by third parties (e.g., supervisors or commanders) if necessary to maintain accountability or inform agency responses to emergencies, including the safety and protection of the workforce. The DoD Components may also collect information about DoD personnel and their dependents for needs and status assessments as a result of the natural or man-made disaster, public health emergency, similar crisis, or when directed by the Secretary of Defense. The DoD Components may also use accountability data for accountability and assessment reporting exercises.

CATEGORIES OF INDIVIDUALS COVERED BY THE SYSTEM:

DoD-affiliated personnel to include: Military Service members (active duty, Guard/Reserve and the Coast Guard personnel when operating as a Military Service with the Navy), civilian employees (including non-appropriated fund employees), dependents and family members of the above, and contractors or other individuals working at or requiring access to DoD facilities.

CATEGORIES OF RECORDS IN THE SYSTEM:

Subject individual's full name, Social Security Number (SSN), DoD Identification Number (DoD ID Number), DoD affiliation, date of birth, duty station address and telephone numbers, home and email addresses, and telephone numbers (to include cell number). Emergency Data information may include spouse's name and address; children's names, dates of birth, address and telephone number; parents' names, addresses and telephone numbers; or emergency contact's name and address. The DoD Components may request information to assess the needs and status of affiliated personnel. Such information may include a needs and status assessment to help determine any specific emergent needs; the date of the assessment; the type of event and category classification; a Federal Emergency Management Agency (FEMA) number, if issued; and other information about individuals if necessary to maintain personnel accountability or inform agency responses to emergencies, such as travel and health-related information covered under the Privacy Act. Personal information maintained will be the minimum necessary in order to accomplish the accountability and/or emergency response mission in accordance with the Privacy Act of 1974 and DoDI 5400.11, consistent with applicable law.

RECORD SOURCE CATEGORIES:

Individuals, supervisors or commanders, other Federal Agencies, and Defense Manpower Data Center (DEERS database).

ROUTINE USES OF RECORDS MAINTAINED IN THE SYSTEM, INCLUDING CATEGORIES OF USERS AND PURPOSES OF SUCH USES:

In addition to those disclosures generally permitted under 5 U.S.C. 552a(b) of the Privacy Act of 1974, these records may specifically be disclosed outside DoD as a routine use pursuant to 5 U.S.C. 552a(b)(3) as follows:

a. To contractors, grantees, experts, consultants, students, and others performing or working on a contract, service, grant, cooperative agreement, or other assignment for the federal government when necessary to accomplish an agency function related to this System of Records.

b. To the Office of Personnel Management (OPM) for the purpose of addressing civilian pay and leave, benefits, retirement deduction, and any other information necessary for the OPM to carry out its legally authorized government-wide personnel management functions and studies.

c. To State and local taxing authorities with which the Secretary of the Treasury has entered into agreements under 5 U.S.C. 5516, 5517, or 5520 and only to those state and local taxing authorities for which an employee or military member is or was subject to tax, regardless of whether tax is or was withheld. The information to be disclosed is information normally contained in Internal Revenue Service (IRS) Form W-2.

d. To any person, organization or governmental entity (e.g., other Federal, State, territorial, local, or foreign, or international governmental agencies or entities, first responders, American Red Cross, etc.), as is necessary and relevant to notify them of, respond to, or guard against a serious and imminent terrorist or homeland security threat, natural or manmade disaster, public health emergency, or other similar crisis, including for the purpose of enabling emergency service personnel to locate an individual.

e. To such recipients and under such circumstances and procedures as are mandated by Federal statute or treaty.

f. To the news media and the public unless it is determined that release of the specific information in the context of a particular case would constitute an unwarranted invasion of personal privacy.

g. To the appropriate Federal, State, local, territorial, tribal, foreign, or international law enforcement authority or other appropriate entity where a record, either alone or in conjunction with other information, indicates a violation or potential violation of law, whether criminal, civil, or regulatory in nature.

h. To any component of the Department of Justice for the purpose of representing the DoD, or its components, officers, employees, or members in pending or potential litigation to which the record is pertinent.

i. In an appropriate proceeding before a court, grand jury, or administrative or adjudicative body or official, when the DoD or other Agency representing the DoD determines that the records are relevant and necessary to the proceeding; or in an appropriate proceeding before an administrative or adjudicative body when the adjudicator determines the records to be relevant to the proceeding.

j. To the National Archives and Records Administration for the purpose of records management inspections conducted under the authority of 44 U.S.C 2904 and 2906.

k. To a member of Congress or staff acting upon the Member's behalf when the Member or staff requests the information on behalf of, and at the request of, the individual who is the subject of the record.

l. To appropriate agencies, entities, and persons when (1) the DoD suspects or confirms a breach of the System of Records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

m. To another Federal agency or Federal entity, when the DoD determines that information from this System of Records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Records are stored in hard copy and electronic media.

POLICIES AND PRACTICES FOR RETRIEVAL OF RECORDS:

Individual's name, DoD ID Number, Social Security Number (SSN), or date of birth.

POLICIES AND PRACTICES FOR RETENTION AND DISPOSAL OF RECORDS:

The Military Departments, Joint Chiefs of Staff and OSD all retain in accordance with their individual Records and Information Management retention schedules.

ADMINISTRATIVE, TECHNICAL, AND PHYSICAL SAFEGUARDS:

DoD Components will ensure that paper and electronic records collected and used are maintained in controlled areas accessible only to authorized personnel. Physical security differs from site to site, but the automated records must be maintained in controlled areas accessible only by authorized personnel. Access to computerized data is restricted by use of common access cards (CACs) and passwords. These are “For Official Use Only” records and are maintained in controlled facilities that employ physical restrictions and safeguards such as security guards, identification badges, key cards, and locks.

RECORD ACCESS PROCEDURES:

Individuals seeking access to records about themselves contained in this System of Records should address written inquiries to their employing DoD Component. The request should include the individual's full name, DoD ID Number, SSN, home address, and be signed.

CONTESTING RECORD PROCEDURES:

The DoD rules for accessing records, contesting contents, and appealing initial agency determinations are contained in 32 CFR part 310, or may be obtained from the system manager.

NOTIFICATION PROCEDURES:

Individuals seeking to determine whether this System of Records contains information about themselves should address written inquiries to their employing DoD Component. The request should include the individual's full name, DoD ID Number, SSN, home address, and be signed.

EXEMPTIONS PROMULGATED FOR THE SYSTEM:

None.

HISTORY:

March 24, 2010, 75 FR 14141.

[FR Doc. 2020-06344 Filed 3-25-20; 8:45 am]

BILLING CODE 5001-06-P